DEPARTMENT OF THE TREASURY

Internal Revenue Service

Open Meeting of the Taxpayer Advocacy Panel Toll-Free Phone Line Project Committee: Correction

AGENCY: Internal Revenue Service (IRS) Treasury.

ACTION: Notice of meeting; correction.

SUMMARY: In the Federal Register notice that was originally published on April 11, 2017, (Volume 82, Number 68, Page 17524) the date was May 17, 2017 at 2:30 p.m., Eastern Time. The new meeting date is: Monday, May 22, 2017, at 2:30 p.m., Eastern Time. This change is due to scheduling conflicts.

DATES: The meeting will be held Monday, May 22, 2017.

FOR FURTHER INFORMATION CONTACT: Fred Smith at 1-888-912-1227 or 202-317-3087.

SUPPLEMENTARY INFORMATION: Notice is hereby given pursuant to Section 10(a)(2) of the Federal Advisory Committee Act, 5 U.S.C. App. (1988) that an open meeting of the Taxpayer Advocacy Panel Toll-Free Phone Line Project Committee will be held Monday, May 22, 2017, at 2:30 p.m. Eastern Time via teleconference. The public is invited to make oral comments or submit written statements for consideration. Due to limited conference lines, notification of intent to participate must be made with Fred Smith. For more information please contact Fred Smith at 1-888-912-1227 or 202-317-3087, or write TAP Office, 1111 Constitution Avenue NW., Room 1509-National Office, Washington, DC 20224, or contact us at the Web site: http://www.improveirs.org. The committee will be discussing Toll-free issues and public input is welcomed.

Dated: May 1, 2017.
Kevin Brown,
Acting Director, Taxpayer Advocacy Panel.

[FR Doc. 2017-09259 Filed 5-5-17; 8:45 am]

BILLING CODE 4830-01-P